FEDERAL RESERVE SYSTEM

Formations of, Acquisitions by, and Mergers of Bank Holding Companies; Correction

This notice corrects a notice (FR Doc. E7-2377) published on page 6566 of the issue for Monday, February 12, 2007.

Under the Federal Reserve Bank of Atlanta heading, the entry for FBG Holding Corporation, Tampa, Florida, is revised to read as follows:

A. Federal Reserve Bank of Atlanta (Andre Anderson, Vice President) 1000 Peachtree Street, N.E., Atlanta, Georgia 30309:

1. FBG Holding Corporation, Tampa, Florida; to become a bank holding company by acquiring 100 percent of the voting shares of Florida Bank Group, Inc., and thereby indirectly acquire Bank of St. Petersburg, both of Tampa, Florida, and Bank of North Florida, Jacksonville, Florida.

Comments on this application must be received by March 9, 2007.

Board of Governors of the Federal Reserve System, February 12, 2007.
Robert deV. Frierson,
Deputy Secretary of the Board.

[FR Doc. E7-2729 Filed 2-15-07; 8:45 am]

BILLING CODE 6210-01-S